DEPARTMENT OF COMMERCE

National Institute of Standards and Technology

Announcing an Open Meeting of the Information Security and Privacy Advisory Board

AGENCY: National Institute of Standards and Technology, Commerce.

ACTION: Notice.

SUMMARY: The Information Security and Privacy Advisory Board (ISPAB) will meet Wednesday, October 26, 2011, from 8 a.m. until 5 p.m., Thursday, October 27, 2011, from 8:30 a.m. until 5 p.m., and Friday, October 28, 2011 from 8 a.m. until 12 p.m. All sessions will be open to the public.

DATES: The meeting will be held on Wednesday, October 26, 2011, from 8 a.m. until 5 p.m. eastern time, Thursday, October 27, 2011, from 8:30 a.m. until 5 p.m. eastern time, and Friday, October 28, 2011 from 8 a.m. until 12 p.m. eastern time.

ADDRESSES: The meeting will take place in the Courtyard Washington Embassy Row, 1600 Rhode Island Avenue, NW., Washington, DC 20036.

FOR FURTHER INFORMATION CONTACT: Ms. Annie Sokol, Information Technology Laboratory, National Institute of Standards and Technology, 100 Bureau Drive, Stop 8930, Gaithersburg, MD 20899-8930, telephone: (301) 975-2006.

SUPPLEMENTARY INFORMATION: Pursuant to the Federal Advisory Committee Act, 5 U.S.C. App., notice is hereby given that the Information Security and Privacy Advisory Board (ISPAB) will meet Wednesday, October 26, 2011, from 8 a.m. until 5 p.m., Thursday, October 27, 2011, from 8:30 a.m. until 5 p.m., and Friday, October 28, 2011 from 8 a.m. until 12 p.m. All sessions will be open to the public. The ISPAB was established by the Computer Security Act of 1987 (Pub. L. 100-235) and amended by the Federal Information Security Management Act of 2002 (Pub. L. 107-347) to advise the Secretary of Commerce and the Director of NIST on security and privacy issues pertaining to federal computer systems. Details regarding the ISPAB's activities are available at http://csrc.nist.gov/groups/SMA/ispab/index.html.

The agenda is expected to include the following items:

—Presentation on NIST Special Publication 800-53, Appendix on Privacy,

—Presentation from U.S. Department of Homeland Security (DHS) on DHS and Department of Defense (DoD) strategy for cyberspace,

—Presentation on Doctrine of Cybersecurity relating to computer security research,

—Presentation from National Protection and Programs Directorate, DHS, on the white paper, “Enabling Distributed Security in Cyberspace”,

—Discussion with Cybersecurity Coordinator and Special Assistant to the President,

—Presentation on Security Automation and key focus areas,

—Presentations on policies relating to national border database (National Vulnerability Database),

—Presentation/discussion on telecommunication, Federal Communications Commission (FCC) and technology,

—Discussion/updates on the National Strategy for Trusted Identities in Cyberspace (NSTIC),

—Panel discussion on recommended framework beyond FISMA 3.0—baseline and sectoral variation,

—Presentation/Discussion on Cyber Awareness Month,

—Discussion on cybersecurity with Senior Defense and Intelligence Advisor,

—Discussion with OMB with emphasis on information security,

—Discussion/Update on FedRAMP,

—Presentation on Privacy and Consumers,

—Panel discussion on Data and Country of Origin in cloud computing, and

—Update of NIST Computer Security Division.

Note that agenda items may change without notice because of possible unexpected schedule conflicts of presenters. The final agenda will be posted on the Web site indicated above.

Public Participation: The ISPAB agenda will include a period of time, not to exceed thirty minutes, for oral comments from the public (Friday, October 28, 2011, between 8:15 a.m. and 8:45 a.m.). Each speaker will be limited to five minutes. Members of the public who are interested in speaking are asked to contact Ms. Annie Sokol at the telephone number indicated above.

In addition, written statements are invited and may be submitted to the ISPAB at any time. Written statements should be directed to the ISPAB Secretariat, Information Technology Laboratory, 100 Bureau Drive, Stop 8930, National Institute of Standards and Technology, Gaithersburg, MD 20899-8930. Approximately fifteen seats will be available for the public and media.

Dated: September 12, 2011.
Willie E. May,
Associate Director for Laboratory Programs.

[FR Doc. 2011-24529 Filed 9-22-11; 8:45 am]

BILLING CODE 3510-13-P